ENVIRONMENTAL PROTECTION AGENCY

[FRL-9118-5]

Clean Water Act Section 303(d): Availability of Ten Total Maximum Daily Loads (TMDLs) in Louisiana

AGENCY: Environmental Protection Agency (EPA).

ACTION: Notice of availability.

SUMMARY: This notice announces the availability for comment on the administrative record files and the calculations of ten TMDLs prepared by EPA Region 6.

This notice covers waters in the State of Louisiana's Atchafalaya and Mississippi River Basins that were identified as impaired on the States Section 303(d) list. These TMDLs were completed in response to a court order in the lawsuit styled Sierra Club, et al. v. Clifford, et al., No. 96-0527, (E.D. La.).

DATES: Comments must be submitted in writing to EPA on or before March 29, 2010.

ADDRESSES: Comments on the ten TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the ten TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes these ten TMDLs pursuant to a consent decree entered in this lawsuit.

EPA Seeks Comment on Ten TMDLs

By this notice EPA is seeking comment on the following ten TMDLs for waters located within Louisiana:

Subsegment | Waterbody name | Pollutant
010301 | West Atchafalaya Basin Floodway | Dissolved Oxygen.
070203 | Devil's Swamp Lake and Bayou Baton Rouge | Fecal Coliform.
070401 | Mississippi River Passes (estuarine) | Fecal Coliform.
070403 | Octave Pass and Main Pass (estuarine) | Fecal Coliform.
070404 | Tiger Pass, Red Pass, Grand Pass, and Tante Phine Pass (estuarine) | Fecal Coliform.
070501 | Bayou Sara | Fecal Coliform.
070502 | Thompson Creek | Fecal Coliform.
070503 | Capitol Lake | Fecal Coliform.
070505 | Tunica Bayou | Fecal Coliform.
070601 | Mississippi River Basin Coastal Bays and Gulf Waters to the State three-mile limit | Fecal Coliform.

EPA requests the public provide to EPA any water quality related data and information that may be relevant to the calculations for the ten TMDLs. EPA will review all data and information submitted during the public comment period and will revise the TMDLs where appropriate. EPA will then forward the TMDLs to the Louisiana Department of Environmental Quality (LDEQ). The LDEQ will incorporate the TMDLs into its current water quality management plan.

Dated: February 18, 2010.
Miguel I. Flores,
Director, Water Quality Protection Division, EPA Region 6.

[FR Doc. 2010-3830 Filed 2-24-10; 8:45 am]

BILLING CODE 6560-50-P